ENVIRONMENTAL PROTECTION AGENCY

[FRL-9327-8]

Agency Information Collection Activities; Proposed Renewal of Several Currently Approved Collections; Comment Request

AGENCY: Environmental Protection Agency (EPA).

ACTION: Notice.

SUMMARY: In compliance with the Paperwork Reduction Act (PRA) (44 U.S.C. 3501 et seq.), this document announces that EPA is planning to submit requests to renew several currently approved Information Collection Request (ICR) to the Office of Management and Budget (OMB). The ICRs are specifically identified in this document by their corresponding titles, EPA ICR numbers, OMB Control numbers, and related docket identification (ID) numbers. Before submitting these ICRs to OMB for review and approval, EPA is soliciting comments on specific aspects of the information collection activities.

DATES: Comments must be received on or before February 13, 2012.

ADDRESSES: Submit your comments, identified by the docket ID number for the corresponding ICR as identified in this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number for the corresponding ICR as identified in this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Rame Cromwell, Field and External Affairs Division (7506P), Office of Pesticide Programs, Environmental Protection Agency, 1200 Pennsylvania Ave., NW., Washington, DC 20460-0001; telephone number: (703) 308-9068; fax number: (703) 308-5884; email address: cromwell.rame@epa.gov.

SUPPLEMENTARY INFORMATION:

I. What information is EPA particularly interested in?

Pursuant to section 3506(c)(2)(A) of PRA, EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Provide specific examples to illustrate your concerns.

6. Offer alternative ways to improve the collection activity.

7. Make sure to submit your comments by the deadline identified under DATES.

8. To ensure proper receipt by EPA, be sure to identify the docket ID number assigned to this action in the subject line on the first page of your response. You may also provide the name, date, and Federal Register citation.

III. What do I need to know about PRA?

An Agency may not conduct or sponsor, and a person is not required to respond to, a collection of information subject to PRA approval unless it displays a currently valid OMB control number. The OMB control numbers for EPA's regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

Under PRA, burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

IV. Which ICRs are being renewed?

EPA is planning to submit a number of currently approved ICRs to OMB for review and approval under PRA. In addition to specifically identifying the ICRs by title and corresponding ICR, OMB and docket ID numbers, this unit provides a brief summary of the information collection activity and the Agency's estimated burden. The Supporting Statement for each ICR, a copy of which is available in the corresponding docket, provides a more detailed explanation.

A. Docket ID Number EPA-HQ-OPP-2011-0737

Title: Application and Summary Report for an Emergency Exemption for Pesticides.

ICR numbers: EPA ICR No. 0596.10, OMB Control No. 2070-0032.

ICR status: The approval for this ICR is scheduled to expire on July 31, 2012.

Affected entities: Entities potentially affected by this ICR include Administration of Environmental Quality Programs, subsector groups, or government establishments primarily engaged in the administration of environmental quality.

Abstract: This Information Collection Request (ICR) is a renewal of an existing ICR that is currently approved by OMB and is due to expire July 31, 2012. Section 18 of the Federal Insecticide, Fungicide, and Rodenticide Act (FIFRA) authorizes EPA to grant emergency exemptions to states and Federal agencies to allow an unregistered use of a pesticide for a limited time if EPA determines that emergency conditions exist. A section 18 action arises when growers and others encounter a pest problem on a site for which there is either no registered pesticide available, or for which there is a registered pesticide that would be effective but is not yet approved for use on that particular site. Section 18 also allows EPA to grant unregistered pesticide use exemptions for public health and quarantine reasons.

Most requests for emergency exemptions are made by state lead agricultural agencies, although agencies such as the United States Departments of Agriculture (USDA), Defense (DOD) and Interior (USDI) also request exemptions. This process is generally initiated when growers in particular regions identify an urgent, non-routine situation which registered pesticides will not alleviate. The growers contact their state lead agency (usually a state's department of agriculture) and request that the state agency apply to EPA for a section 18 emergency exemption for a particular use. The state agency evaluates the requests and submits requests to EPA for emergency exemptions they believe are warranted. The uses are requested for a limited period of time to address the emergency situation only.

Burden statement: The annual public reporting and recordkeeping burden for this collection of information is estimated to average 15,741 for state government applicants for FIFRA section 18 program. The ICR, a copy of which is available in the docket, provides a detailed explanation of this estimate, which is only briefly summarized here:

Estimated total number of potential respondents: 60.

Frequency of response: On occasion.

Estimated total average number of responses for each respondent: 2-3.

Estimated total annual burden hours: 15,741 hours.

Estimated total annual costs: $917,993. This is the estimated burden cost; there is no cost for capital investment or maintenance and operational costs in this information collection.

Changes in the estimates from the last approval: The renewal of this ICR will result in an overall decrease of 33,759 hours in the total estimated respondent burden identified in the currently approved ICR. The total annual respondent burden cost has decreased due to a change in the average number of section 18s requested per year from 494 to 159. For the next renewal cycle the Agency projects it will receive approximately 159 section 18 applications each year over the next three years. The Agency believes that respondents will experience some burden reduction over the next three years due to the streamlined recertification process for section 18 applications.

B. Docket ID Number EPA-HQ-OPP-2011-0843

Title: Notice of Arrival of Pesticides and Devices under Section 17(c) of FIFRA.

ICR numbers: EPA ICR No. 0152.10, OMB Control No. 2070-0020.

ICR status: The approval for this ICR is scheduled to expire on August 31, 2012.

Affected entities: Entities potentially affected by this ICR are individuals or entities that import pesticides into the United States. The North American Industrial Classification System (NAICS) codes assigned to the parties responding to this information collection include NAICS code 236220 (commercial and institutional building construction), sector 11 (agriculture, forestry, fishing, and hunting), and sector 42 (wholesale trade). The majority of responses come from entities that fall under NAICS code 325300 (pesticide and other agricultural chemical manufacturing).

Abstract: The Customs and Border Protection (CBP) regulations at 19 CFR 12.112 require that an importer desiring to import a pesticide or device into the United States shall, prior to the shipment's arrival in the United States, submit a Notice of Arrival of Pesticides and Devices (EPA Form 3540-1) to EPA. EPA Form 3540-1 requires the identification and contact information of parties involved in the importation of the pesticide or device and information on the identity of the imported pesticide or device shipment. EPA will review the form and indicate the disposition of the shipment upon its arrival in the United States. Upon completing Form 3540-1, EPA returns the form to the importer of record or authorized agent, who must present the form to CBP upon arrival of the shipment at the port of entry. This is necessary to ensure that EPA is notified of the arrival of pesticides and devices as required under the FIFRA section 17(c), and that EPA has the ability to examine such shipments to determine compliance with FIFRA. Upon the arrival of the shipment, the importer presents the completed notice of arrival (NOA) to the CBP District Director at the port of entry. CBP compares entry documents for the shipment with the NOA and notifies the EPA regional office of any discrepancies.

During this renewal of this information collection, EPA proposes to amend Form 3540-1. The proposed amendments clarify the instructions for completing the form, revise the data items, and update the terminology used on the form to be consistent with those used by CBP. In addition, EPA is capturing the burden of providing supplemental information submitted with Form 3540-1 to the Agency by most importers on a voluntary basis.

Burden statement: The annual public reporting and recordkeeping burden for this collection of information is estimated to average 0.43 hours per response. The ICR, a copy of which is available in the docket, provides a detailed explanation of this estimate, which is only briefly summarized here:

Estimated total number of potential respondents: 28,000.

Frequency of response: On occasion.

Estimated total average number of responses for each respondent: 1.

Estimated total annual burden hours: 12,040 hours.

Estimated total annual costs: $685,146. This is the estimated burden cost; there is no cost for capital investment or maintenance and operational costs in this information collection.

Changes in the estimates from the last approval: The renewal of this ICR will result in an overall increase of 4,540 hours in the total estimated respondent burden identified in the currently approved ICR. This increase is a result of an increase in the annual number of NOAs submitted and an increase in the burden hours per response. The annual number of NOAs submitted to EPA increased from 25,000 to 28,000. The average burden hours per response will change from 0.3 hours for the previous ICR renewal to 0.43 hours for this ICR renewal. This change in burden hours per response is a result of changes to the data items on Form 3450-1, as well as an accounting of the burden of voluntarily submitting certain information. Specifically, this burden estimate accounts for the new burdens related to providing information for the telephone numbers and email addresses of the shipper, importer of record, licensed broker, and ultimate consignee when supplying name and address information, and that the complete address, including telephone and email address, of the carrier be provided. In addition, EPA is accounting for the burden of voluntarily providing active ingredients and percentage of each, supporting documentation for registered and unregistered pesticides, as well as intended use information for unregistered pesticides. This change is an adjustment.

C. Docket ID Number EPA-HQ-OPP-2011-0886

Title: Application for New and Amended Pesticide Registration.

ICR numbers: EPA ICR No. 0277.16, OMB Control No. 2070-0060.

ICR status: The approval for this ICR is scheduled to expire on July 31, 2012.

Affected entities: Entities potentially affected by this ICR are individuals or entities engaged in activities related to the registration of pesticide products. The NAICS code assigned to the entities responding to this information is 325300 (pesticide and other agricultural and chemical manufacturing).

Abstract: This ICR renewal will allow EPA to collect necessary data to evaluate an application of a pesticide product as required under section 3 of FIFRA, and the Federal Food, Drug, and Cosmetic Act (FFDCA), as amended by the Food Quality Protection Act (FQPA) of August 3, 1996. Under FIFRA, EPA must evaluate pesticides thoroughly before they can be marketed and used in the United States, to ensure that they will not pose unreasonable adverse effects to human health and the environment. Pesticides that meet this test are granted a license or “registration” which permits their distribution, sale, and use according to requirements set by EPA to protect human health and the environment. The producer of the pesticide must provide data from tests done according to EPA guidelines or other test methods that provide acceptable data. These tests must determine whether a pesticide has the potential to cause adverse effects on humans, wildlife, fish and plants, including endangered species and non-target organisms, as well as possible contamination of surface water or groundwater from leaching, runoff and spray drift. EPA also must approve the language that appears on each pesticide label. A pesticide product can only be used according to the directions on the labeling accompanying it at the time of sale, through its use and disposal.

Burden statement: The annual public reporting and recordkeeping burden for this collection of information is estimated to range from 14 hours to 840 hours, depending upon the type of response. The ICR, a copy of which is available in the docket, provides a detailed explanation of this estimate, which is only briefly summarized here:

Estimated total number of potential respondents: 1,758.

Frequency of response: On occasion.

Estimated total average number of responses for each respondent: 1.

Estimated total annual burden hours: 55,412 hours.

Estimated total annual costs: $4,101,100. This is the estimated burden cost; there is no cost for capital investment or maintenance and operational costs in this information collection.

Changes in the estimates from the last approval: The renewal of this ICR will result in an overall decrease of 20,768 hours in the total estimated respondent burden identified in the currently approved ICR. This decrease reflects fewer expected responses across all response types. The reduction in EPA's response estimate is primarily from a reduction in “Type B” activities, which include amendments and notifications, in the Antimicrobial Division. Based on experience over the past three years, the Agency has reduced the number of responses to reflect estimates closer to actual number of responses. In addition, due to some industry consolidation and based on registration maintenance fee data, EPA has identified 42 fewer ICR respondents. This change is an adjustment.

V. What is the Next Step in the Process for these ICRs?

EPA will consider the comments received and amend the individual ICRs as appropriate. The final ICR packages will then be submitted to OMB for review and approval pursuant to 5 CFR 1320.12. EPA will issue another Federal Register notice pursuant to 5 CFR 1320.5(a)(1)(iv) to announce the submission of these ICRs to OMB and the opportunity for the public to submit additional comments for OMB consideration. If you have any questions about any of these ICRs or the approval process in general, please contact the person listed under FOR FURTHER INFORMATION CONTACT.

List of Subjects

Environmental protection, Reporting and recordkeeping requirements.

Dated: December 7, 2011.
James Jones,
Acting Assistant Administrator, Office of Chemical Safety and Pollution Prevention.

[FR Doc. 2011-32075 Filed 12-13-11; 8:45 am]

BILLING CODE 6560-50-P